DEPARTMENT OF TRANSPORTATION

Federal Highway Administration

Environmental Impact Statement: Waukesha County, WI

AGENCY: Federal Highway Administration (FHWA), DOT.

ACTION: Supplemental notice of intent.

SUMMARY: The FHWA is issuing this notice to advise the public that an environmental impact statement will be prepared for transportation improvements in the State Trunk Highway (STH) 83 corridor between County Trunk Highway (CTH) “NN” at the north limits of the Village of Mukwonago and STH 16, Waukesha County, Wisconsin. The north terminus was extended since the notice of intent was published in the Federal Register on March 26, 2001 (66 FR 16520).

FOR FURTHER INFORMATION CONTACT: Mr. Richard C. Madrzak, Field Operations Engineer, Federal Highway Administration, 567 D'Onofrio Drive, Madison, Wisconsin, 53719-2814; telephone: (608) 829-7510. You may also contact Ms. Carol Cutshall, Director, Bureau of Environment, Wisconsin Department of Transportation, P.O. Box 7965, Madison, Wisconsin, 53707-7965; telephone: (608) 266-9626.

SUPPLEMENTARY INFORMATION:

Electronic Access

An electronic copy of this document may be downloaded by using a computer, modem and suitable communications software from the Government Printing Offices' Electronic Bulletin Board Service at (202) 512-1661. Internet users may reach the Office of Federal Register's home page at: http://www.nara.gov/fedreg and the Government Printing Offices' database at: http://www.access.gpo.gov/nara.

Background

The FHWA, in cooperation with the Wisconsin Department of Transportation, will prepare a Draft Environmental Impact Statement (EIS) on a proposal to provide safety, operational and capacity improvements on an approximate 27 kilometer (17 mile) section of STH 83 between CTH “NN” at the north limits of the Village of Mukwonago and STH 16, Waukesha County.

This notice is supplementary to the notice of intent, which was published in the Federal Register on March 26, 2001 at 66 FR 16520. The purpose of the supplemental notice of intent is to extend the project limits about 6 kilometers (4 miles) at the north terminus. The previous north terminus was Interstate Highway 94. The revised north terminus is STH 16.

To ensure that the full range of issues related to this proposed action are addressed, and all substantive issues are identified, comments and suggestions are invited from all interested parties. Comments or questions concerning this proposed action and the EIS should be directed to FHWA or the Wisconsin Department of Transportation at the addresses provided in the caption FOR FURTHER INFORMATION CONTACT.

(Catalog of Federal Domestic Assistance Program Number 20.205, Highway Planning and Construction. The regulations implementing Executive Order 12372 regarding intergovernmental consultation on Federal programs and activities apply to this program)

Authority: 23 U.S.C. 315; 49 CFR 1.48.

Issued on: November 29, 2001.
Richard C. Madrzak,
Field Operations Engineer, Federal Highway Administration, Madison, Wisconsin.

[FR Doc. 01-30086 Filed 12-4-01; 8:45 am]

BILLING CODE 4910-22-M